DEPARTMENT OF LABOR

Employment and Training Administration

Solicitation for Grant Applications (SGA) for H-1B Technical Skills Training Grants; Cancellation

AGENCY: Employment and Training Administration (ETA), Labor.

ACTION: Notice of cancellation.

SUMMARY: The Department of Labor (DOL) is canceling the SGA published in the Federal Register of January 6, 2003 (68 FR 567), concerning the availability of grant funds for H-1B Technical Skills Training Grants for training unemployed and employed American workers.

EFFECTIVE DATE: January 16, 2004.

FOR FURTHER INFORMATION CONTACT: James Stockton, Grant Officer, Division of Federal Assistance, Telephone (202) 693-3301. (This is not a toll-free number).

SUPPLEMENTARY INFORMATION: As authorized in the ACWIA 1998 (PL 105-227, the American Competitiveness and Workforce Improvement Act of 1998) and AC-21 (PL 106-313, the American Competitiveness in the Twenty-First Century Act), DOL provides grants for technical skills training from user fees that have been paid by employers hiring foreign workers under H-1B non-immigrant visas. We identified our goals and underlying principles for these grants, along with application procedures, in an SGA published in the Federal Register at 68 FR 567 (January 6, 2003). In order to reconsider these goals and principles, the Department is canceling the Solicitation for Grant Applications (SGA/DFA 03-100) for H-1B Technical Skills Training Grants. This cancellation will be effective two days after the publication of this Federal Register notice. We will not accept applications received after 5 p.m. Eastern Standard Time on January 16, 2004. However, the Department will review applications received prior to this cancellation and may consider possible funding for those found eligible for funding in accordance with the review process specified in the SGA.

Signed in Washington, DC, this 9th day of January, 2004.
James W. Stockton,
Grant Officer.

[FR Doc. 04-805 Filed 1-13-04; 8:45 am]

BILLING CODE 4510-30-P